SUSQUEHANNA RIVER BASIN COMMISSION

Notice of Public Hearing and Commission Meeting

AGENCY: Susquehanna River Basin Commission.

ACTION: Notice of public hearing and commission meeting.

SUMMARY: The Susquehanna River Basin Commission will hold a public hearing as part of its regular business meeting beginning at 8:30 a.m. on June 13, 2007 in North East, Maryland. At the public hearing, the Commission will consider: (1) The approval of certain water resources projects, including a project modification involving a diversion of water from the basin; (2) an enforcement action involving one project; and (3) a revision of its Comprehensive Plan for Management and Development of the Water Resources of the Susquehanna River Basin (Comprehensive Plan). Details concerning the matters to be addressed at the public hearing, as well as other matters on the business meeting agenda, are contained in the Supplementary Information section of this notice.

DATES: June 13, 2007.

ADDRESSES: Cecil Community College Conference Center, Room TC208, 1 Seahawk Drive, North East, Maryland. See SUPPLEMENTARY INFORMATION section for mailing and electronic mailing addresses for submission of written comments.

FOR FURTHER INFORMATION CONTACT: Richard A. Cairo, General Counsel, telephone: (717) 238-0423; ext. 306; fax: (717) 238-2436; e-mail: rcairo@srbc.net or Deborah J. Dickey, Secretary to the Commission, telephone: (717) 238-0423, ext. 301; fax: (717) 238-2436; e-mail: ddickey@srbc.net.

SUPPLEMENTARY INFORMATION: In addition to the public hearing and its related action items identified below, the business meeting also includes the following items on the agenda: (1) A presentation by the U.S. Fish & Wildlife Service regarding the 2007 migratory fish run and a presentation by the U.S. Geological Survey regarding a 7-year Coastal Plain Aquifer Study; (2) consideration of a FY-09 Budget; (3) approval/ratification of grants and contracts; (4) election of Commission officers for the 2007/2008 term; and (5) presentation of the Commission's Maurice K. Goddard Award.

Public Hearing—Projects Scheduled for Action

1. Project Sponsor and Facility: Town of Conklin (Well 5), Broome County, NY. Application for groundwater withdrawal of up to 0.350 mgd.

2. Project Sponsor and Facility: Town of Erwin (IP Well 2), Steuben County, NY. Application for groundwater withdrawal of up to 0.504 mgd.

3. Project Sponsor and Facility: Far Away Springs—Brandonville, East Union Township, Schuylkill County, PA. Applications for groundwater withdrawal of up to 0.200 mgd and consumptive water use of up to 0.200 mgd.

4. Project Sponsor and Facility: Hughesville Borough Authority, Wolf Township, Lycoming County, Pa. Application for groundwater withdrawal of up to 1.440 mgd.

5. Project Sponsor: Glenn O. Hawbaker, Inc. Project Facility: Pleasant Gap, Spring Township, Centre County, Pa. Modification of consumptive water use approval (Docket No. 20050307).

6. Project Sponsor and Facility: Centre Hills Country Club, College Township, Centre County, Pa. Application for groundwater withdrawal of up to 0.300 mgd.

7. Project Sponsor: New Enterprise Stone & Lime Company, Inc. Project Facility: Tyrone Quarry, Warriors Mark Township, Huntingdon County, Pa. Modification of surface water and groundwater approval (Docket No. 20031205).

8. Project Sponsor: New Enterprise Stone & Lime Company, Inc. Project Facility: Ashcom Quarry, Snake Spring Township, Bedford County, Pa. Modification of groundwater approval (Docket No. 20031204).

9. Project Sponsor and Facility: East Cocalico Township Authority (Well M), West Cocalico Township, Lancaster County, Pa. Application for groundwater withdrawal of up to 1.580 mgd.

10. Project Sponsor and Facility: East Cocalico Township Authority (Well F), East Cocalico Township, Lancaster County, Pa. Application for groundwater withdrawal of up to 1.150 mgd.

11. Project Sponsor: Golf Enterprises, Inc. Project Facility: Valley Green Golf Course, Newberry Township, York County, Pa. Modification of consumptive water use approval (Docket No. 20021019).

12. Project Sponsor and Facility: Dillsburg Area Authority, Carroll Township, York County, Pa. Application for groundwater withdrawal of up to 0.360 mgd.

13. Project Sponsor and Facility: Mount Joy Borough Authority, Mount Joy Borough, Lancaster County, Pa. Application for groundwater withdrawal of up to 1.020 mgd.

14. Project Sponsor and Facility: Dart Container Corporation of Pennsylvania (Well B), Upper Leacock Township, Lancaster County, Pa. Application for groundwater withdrawal of up to 0.123 mgd.

15. Project Sponsor and Facility: Honey Run GIBG LLC, Dover Township, York County, Pa. Modification of surface water withdrawal approval (Docket No. 20020827).

Public Hearing—Project Scheduled for Action Involving a Diversion

1. Project Sponsor and Facility: AES Ironwood, LLC, South Lebanon Township, Lebanon County, Pa. Modification of surface water and consumptive use approval and diversion (Docket No. 19980502).

Public Hearing—Project Scheduled for Enforcement Action

1. Project Sponsor: South Slope Development Corporation (Docket No. 19991103). Project Facility: Song Mountain Ski Resort, Town of Preble, Cortland County, N.Y.

Public Hearing—Revision of Comprehensive Plan

1. Incorporation of the Whitney Point Lake Section 1135 Project Modification and the (Barnes and Tucker) Lancashire No. 15 AMD Treatment Plant into the Commission's Comprehensive Plan.

Opportunity To Appear and Comment

Interested parties may appear at the above hearing to offer written or oral comments to the Commission on any matter on the hearing agenda, or at the business meeting to offer written or oral comments on other matters scheduled for consideration at the business meeting. The chair of the Commission reserves the right to limit oral statements in the interest of time and to otherwise control the course of the hearing and business meeting. Written comments may also be mailed to the Susquehanna River Basin Commission, 1721 North Front Street, Harrisburg, Pennsylvania 17102-2391, or submitted electronically to Richard A. Cairo, General Counsel, e-mail: rcairo@srbc.net or Deborah J. Dickey, Secretary to the Commission, e-mail: ddickey@srbc.net. Comments mailed or electronically submitted must be received prior to June 13, 2007 to be considered.

Authority: Public Law 91-575, 84 Stat. 1509 et seq., 18 CFR parts 806, 807, and 808.

Dated: May 15, 2007.
Thomas W. Beauduy,
Deputy Director.

[FR Doc. E7-10070 Filed 5-23-07; 8:45 am]

BILLING CODE 7040-01-P